DEPARTMENT OF TRANSPORTATION

Maritime Administration

[Docket No. MARAD-2026-0233]

Request for Comments on the Renewal of a Previously Approved Information Collection: Request for Transfer of Ownership, Registry, and Flag, or Charter, Lease, or Mortgage of U.S. Citizen Owned Documented Vessels

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0006 (Request for Transfer of Ownership, Registry, and Flag, or Charter, Lease, or Mortgage of U.S. Citizen Owned Documented Vessels) is used to determine if a vessel proposed for transfer must be retained under U.S. flag regulations. MARAD is required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Katrina McRae, 202-366-3198, Office of Sealift Support, U.S. Department of Transportation, Maritime Administration, 1200 New Jersey Avenue SE, Washington, DC 20590, Email: Katrina.mcrae@dot.gov.

SUPPLEMENTARY INFORMATION: Title: Request for Transfer of Ownership, Registry, and Flag, or Charter, Lease, or Mortgage of U.S. Citizen Owned Documented Vessels.

OMB Control Number: 2133-0006.

Type of Request: Extension without change of a currently approved collection.

Abstract: This collection provides information necessary for MARAD to approve the sale, transfer, charter, lease, or mortgage of U.S. documented vessels to non-citizens, or the transfer of such vessels by their owners to foreign registry and flag, as required by various contractual requirements. MARAD uses the compiled data to determine if the transfer is subject to retention under the U.S. flag statutory regulations.

Respondents: Vessel owners who have applied for foreign transfer of U.S. flag vessels.

Affected Public: Business or other for-profit.

Estimated Number of Respondents: 85.

Estimated Number of Responses: 85.

Estimated Hours per Response: 2.

Annual Estimated Total Annual Burden Hours: 170.

Frequency of Response: Annually.

A 60-day Federal Register Notice soliciting comments on this information collection was published on December 23, 2025, 90 FR 60235.

(Authority: The Paperwork Reduction Act of 1995; 44 U.S.C. Chapter 35, as amended; and 49 CFR 1.49.)

By Order of the Maritime Administrator.
T. Mitchell Hudson, Jr.,
Secretary, Maritime Administration.

[FR Doc. 2026-03725 Filed 2-24-26; 8:45 am]

BILLING CODE 4910-81-P